DEPARTMENT OF HEALTH AND HUMAN SERVICES

National Institutes of Health

National Cancer Institute; Amended Notice of Meeting

Notice is hereby given of a change in the meeting of the National Cancer Institute Board of Scientific Advisors, June 28, 2010, 8 a.m. to June 29, 2010, 12 p.m., National Institutes of Health, Building 31, 31 Center Drive, Bethesda, MD 20892 which was published in the Federal Register on May 12, 2010, 75 FR 26761-26762.

This meeting is amended to change it to a one-day meeting to be held on June 28, 2010, from 8 a.m. to 6 p.m. The meeting is open to the public.

Dated: June 4, 2010.
Jennifer Spaeth,
Director, Office of Federal Advisory Committee Policy.

[FR Doc. 2010-13954 Filed 6-9-10; 8:45 am]

BILLING CODE 4140-01-P